DEPARTMENT OF HEALTH AND HUMAN SERVICES

Centers for Medicare and Medicaid Services

[Document Identifier: CMS-2744 and CMS-2746]

Agency Information Collection Activities: Proposed Collection; Comment Request

Agency: Centers for Medicare and Medicaid Services.

In compliance with the requirement of section 3506(c)(2)(A) of the Paperwork Reduction Act of 1995, the Centers for Medicare and Medicaid Services (CMS) (formerly known as the Health Care Financing Administration (HCFA)), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: Revision of a currently approved collection;

Title of Information Collection: End Stage Renal Disease Medical Information System ESRD Facility Survey and Supporting Regulations in 42 CFR 405.2133; Form No.: CMS-2744 (OMB# 0938-0447); Use: The ESRD Facility Survey form (CMS-2744) is completed annually by Medicare-approved providers of dialysis and transplant services. The CMS-2744 is designed to collect information concerning treatment trends, utilization of services and patterns of practice in treating ESRD patients; Frequency: Annually; Affected Public: Business or other for-profit, and Not-for-profit institutions; Number of Respondents: 4,360; Total Annual Responses: 4,360; Total Annual Hours: 34,880.

2. Type of Information Collection Request: Revision of a currently approved collection; Title of Information Collection: End Stage Renal Disease Death Notification, Pub. L. 95-292; 42 CFR 405.2133; 45 CFR 5, 5b; 20 CFR parts 401, 422E; Form No.: CMS-2746 (OMB# 0938-0448); Use: The ESRD Death Notification is to be completed upon the death of ESRD patients. Its primary purpose is to collect fact and cause of death. Reports of deaths are used to show cause of death and demographic characteristics of these patients; Frequency: Other: One-time (patient death); Affected Public: Business or other for-profit, Not-for-profit institutions, and Federal Government; Number of Respondents: 4,360; Total Annual Responses: 69,760; Total Annual Hours: 34,880.

To obtain copies of the supporting statement and any related forms for the proposed paperwork collections referenced above, access CMS's Web site address at http://cms.hhs.gov/regulations/pra/default.asp, or e-mail your request, including your address, phone number, OMB number, and CMS document identifier, to Paperwork@hcfa.gov, or call the Reports Clearance Office on (410) 786-1326. Written comments and recommendations for the proposed information collections must be mailed within 60 days of this notice directly to the CMS Paperwork Clearance Officer designated at the following address: CMS, Office of Strategic Operations and Regulatory Affairs, Division of Regulations Development and Issuances, Attention: Dawn Willinghan, Room C5-14-03, 7500 Security Boulevard, Baltimore, Maryland 21244-1850.

Dated: August 28, 2003.
Dawn Willinghan,
Acting CMS Reports Clearance Officer, Office of Strategic Operations and Strategic Affairs, Division of Regulations Development and Issuances.

[FR Doc. 03-22695 Filed 9-5-03; 8:45 am]

BILLING CODE 4120-03-P